NATIONAL SCIENCE FOUNDATION

Agency Information Collection Activities: 2026 Survey of Earned Doctorates

AGENCY: National Science Foundation.

ACTION: Submission for OMB review; comment request.

SUMMARY: The National Center for Science and Engineering Statistics (NCSES) within the National Science Foundation (NSF) has submitted the following information collection requirements to OMB for review and clearance under the Paperwork Reduction Act of 1995. This is the second notice for public comment; the first was published in the Federal Register, and two comments were received. NSF is forwarding the proposed submission to the Office of Management and Budget (OMB) for clearance simultaneously with the publication of this second notice.

DATES: Written comments and recommendations for the proposed information collection should be sent within 30 days of publication of this notice to www.reginfo.gov/public/do/PRAmain. Find this particular information collection by selecting “Currently under 30-day Review—Open for Public Comments” or by using the search function.

FOR FURTHER INFORMATION CONTACT: Suzanne H. Plimpton, Reports Clearance Officer, National Science Foundation, 2415 Eisenhower Avenue, Suite E6400, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

Comments: Comments regarding (a) whether the proposed collection of information is necessary for the proper performance of the functions of the NSF, including whether the information shall have practical utility; (b) the accuracy of the NSF's estimate of the burden of the proposed collection of information; (c) ways to enhance the quality, use, and clarity of the information on respondents; and (d) ways to minimize the burden of the collection of information on those who are to respond, including through the use of appropriate automated, electronic, mechanical, or other technological collection techniques or other forms of information technology should be addressed to the points of contact in the FOR FURTHER INFORMATION CONTACT section.

Copies of the submission may be obtained by calling 703-292-7556. NSF may not conduct or sponsor a collection of information unless the collection of information displays a currently valid OMB control number, and the agency informs potential persons who are to respond to the collection of information that such persons are not required to respond to the collection of information unless it displays a currently valid OMB control number.

SUPPLEMENTARY INFORMATION:

Title of Collection: Survey of Earned Doctorates.

OMB Control Number: 3145-0019.

Summary of Collection: The Survey of Earned Doctorates (SED) is part of NCSES' survey system that collects data on individuals in an effort to provide information on science and engineering education and careers in the United States. The SED has been conducted annually since 1958 and is jointly sponsored by four Federal agencies (NSF/NCSES, National Institutes of Health, U.S. Department of Education/National Center for Education Statistics, and National Endowment for the Humanities) to avoid duplication of effort in collecting such data. The authority to collect information for the Survey of Earned Doctorates (SED) is established under the National Science Foundation Act of 1950, as amended, Public Law 507 (42 U.S.C. 1862), Section 3(a) (6), which directs the NSF “. . . to provide a central clearinghouse for the collection, interpretation, and analysis of data on scientific and engineering resources and to provide a source of information for policy formation by other agencies of the federal government.”

This request to extend the information collection for three years is to cover the 2026 and 2027 SED survey cycles. Data are obtained primarily via Web survey from each person earning a research doctorate at the time they receive the degree. Graduate schools help distribute the SED to their graduating doctorate recipients. Nonrespondents to the web survey are followed up by computer-assisted telephone interviewing.

The survey will be collected in conformance with the NSF Act of 1950, as amended, and the Privacy Act of 1974. Responses from individuals are voluntary. Data are collected on their field of specialty, educational background, sources of support in graduate school, debt level, postgraduation plans, and demographic characteristics. NCSES will ensure that all individually identifiable information collected will be kept strictly confidential and will be used for research or statistical purposes, analyzing data, and preparing scientific reports and articles.

Use of the Information: NCSES, as the lead agency, publishes statistics from the survey in several reports, but primarily in the annual publication series reporting on all fields of study, titled Doctorate Recipients from U.S. Universities. Information from the SED is also used to prepare congressionally mandated reports such as Science and Engineering Indicators.

Expected Respondents: The SED is a census of all individuals receiving a research doctorate from an accredited U.S. academic institution in an academic year (AY) beginning 1 July and ending 30 June of the following year. Based on the historical trend, NCSES expects that approximately 58,000 individuals will receive a research doctorate from U.S. institutions in AY2026, and approximately 58,500 in AY2027. NCSES estimates the response rate will be 92 percent for both the 2026 and 2027 SED survey cycles. In addition to the survey completion of individuals receiving their research doctorates, the SED requires the collection of administrative data such as graduation lists from approximately 650 Institutional Coordinators at the participating institutions who help to distribute the Web survey link, track survey completions, and submit information to the SED survey contractor.

Estimate of Burden: Based on an average Web survey completion time of 19.5 minutes, the respondent burden for completing the 2026 SED is estimated at 17,342 hours (58,000 doctorate recipients × 92% response × 19.5 minutes) and the total respondent burden to be 17,492 hours in 2027 (58,500 doctorate recipients × 92% response × 19.5 minutes). With about 650 Institutional Coordinators (ICs) expected to participate in the 2026 and 2027 SED, the estimated burden to ICs is 13,000 hours for each survey cycle. Therefore, the total burden for the SED is estimated to be 30,342 (17,342 + 13,000) hours in the 2026 survey cycle and 30,492 (17,492 + 13,000) hours in the 2027 survey cycle. NCSES estimates that the average annual burden for the 2026 and 2027 survey cycles over the course of the three-year OMB clearance period will be no more than 20,278 hours [(30,342 hours + 30,492 hours)/3 years].

Dated: May 8, 2025.
Suzanne H. Plimpton,
Reports Clearance Officer, National Science Foundation.

[FR Doc. 2025-08385 Filed 5-12-25; 8:45 am]

BILLING CODE 7555-01-P